DEPARTMENT OF THE TREASURY

United States Customs Service

19 CFR PART 177

RIN 1515-AC56

Administrative Rulings

AGENCY: U.S. Customs Service, Department of the Treasury.

ACTION: Proposed rule; extension of comment period.

SUMMARY: On July 17, 2001, Customs published in the Federal Register a notice of proposed rulemaking that set forth proposed amendments to those provisions of the Customs Regulations that concern the issuance of administrative rulings and related written determinations and decisions on prospective and current transactions arising under the Customs and related laws. This document extends for an additional 30 days the period of time within which interested members of the public may submit comments on the proposed amendments.

DATES: Comments on the proposed amendments must be received on or before October 17, 2001.

ADDRESSES: Written comments (preferably in triplicate) may be addressed to the Regulations Branch, Office of Regulations and Rulings, U.S. Customs Service, 1300 Pennsylvania Avenue, NW., Washington, DC 20229. Comments submitted may be inspected at the Regulations Branch, Office of Regulations and Rulings, U.S. Customs Service 1300 Pennsylvania Avenue, NW., 3rd Floor, Washington, DC.

FOR FURTHER INFORMATION CONTACT: John Elkins, Textiles Branch, Office of Regulations and Rulings (202-927-2380).

SUPPLEMENTARY INFORMATION:

Background

On July 17, 2001, Customs published in the Federal Register (66 FR 37370) a notice of proposed rulemaking that set forth proposed amendments to Part 177 of the Customs Regulations (19 CFR Part 177). Part 177 contains, among other things, general provisions regarding the issuance of binding administrative rulings and related written determinations and decisions on prospective and current transactions arising under the Customs and related laws. The document solicited public comments on the proposed amendments and specified September 17, 2001, as the closing date for the submission of comments. On July 30, 2001, Customs published in the Federal Register (66 FR 39293) a correction document regarding the proposal.

Customs has received a letter from an international trade association requesting a 60-day extension of the public comment period. The letter explained that an extension was necessary because of the difficulty in collecting the views of the association's extensive membership during the summer vacation season regarding a matter that is of critical importance for the international trade community.

Customs believes that the request for a 60-day extension of the comment period must be balanced against the need to move forward with this important regulatory project. Accordingly, while Customs is sympathetic with the arguments made in support of an extension of the comment period, Customs believes that a 30-day extension would be more appropriate and would still afford sufficient additional time for the submission of comments by all interested parties. After the close of the extended comment period, Customs will review the comments submitted and will determine whether those comments raise issues that are of sufficient magnitude as to warrant reopening the comment period, publishing revised proposed amendments and/or instituting another appropriate public procedure prior to taking final action on this matter.

Accordingly, the public comment period is extended 30 days, to October 17, 2001.

Dated: August 22, 2001.
Douglas M. Browning,
Acting Assistant Commissioner, Office of Regulations and Rulings.

[FR Doc. 01-21659 Filed 8-27-01; 8:45 am]

BILLING CODE 4820-02-P